DEPARTMENT OF COMMERCE

International Trade Administration

[A-570-929]

Small Diameter Graphite Electrodes From the People's Republic of China: Preliminary Rescission of Antidumping Duty New Shipper Review; 2014

AGENCY: Enforcement and Compliance, International Trade Administration, Department of Commerce.

SUMMARY: On September 30, 2014, the Department of Commerce (the Department) initiated the antidumping duty new shipper review of small diameter graphite electrodes from the People's Republic of China (PRC) for the period of review (POR) of February 1, 2014, through August 31, 2014, for Xuzhou Jianglong Carbon Products Co., Ltd. (Jianglong).¹ We preliminarily determine that Jianglong does not qualify as a new shipper and we are preliminarily rescinding this new shipper review.

¹ See Small Diameter Graphite Electrodes From the People's Republic of China: Initiation of Antidumping Duty New Shipper Review, 79 FR 58742 (September 30, 2014) (Initiation Notice).

DATES: Effective date: May 28, 2015.

FOR FURTHER INFORMATION CONTACT: Hermes Pinilla or Minoo Hatten, AD/CVD Operations, Office I, Enforcement and Compliance, International Trade Administration, U.S. Department of Commerce, 14th Street and Constitution Avenue NW., Washington, DC 20230; telephone: (202) 482-3477 or (202) 482-1690, respectively.

SUPPLEMENTARY INFORMATION:

Scope of the Order

The merchandise covered by the order includes all small diameter graphite electrodes of any length, whether or not finished, of a kind used in furnaces, with a nominal or actual diameter of 400 millimeters (16 inches) or less, and whether or not attached to a graphite pin joining system or any other type of joining system or hardware. The subject merchandise is currently classifiable under the Harmonized Tariff Schedule of the United States (HTSUS) subheadings 8545.11.0010 ² and 3801.10. The HTSUS numbers are provided for convenience and customs purposes, but the written description of the scope is dispositive. A full description of the scope of the order is contained in the Preliminary Decision Memorandum.³

² The scope described in the order refers to the HTSUS subheading 8545.11.0000. We note that, starting in 2010, imports of small diameter graphite electrodes are classified in the HTSUS under subheading 8545.11.0010 and imports of large diameter graphite electrodes are classified under subheading 8545.11.0020.

³ See Memorandum from Christian Marsh, Deputy Assistant Secretary for Antidumping and Countervailing Duty Operations, to Ronald K. Lorentzen, Acting Assistant Secretary for Enforcement and Compliance, “Decision Memorandum for Preliminary Results of Antidumping Duty New Shipper Review: Small Diameter Graphite Electrodes from the People's Republic of China” (Preliminary Decision Memorandum), dated concurrently with these results and hereby adopted by this notice.

Methodology

We are conducting this new shipper review in accordance with section 751(a)(2)(B) of the Tariff Act of 1930, as amended (the Act), and 19 CFR 351.214. For a full description of the methodology underlying our conclusions, see Preliminary Decision Memorandum. A list of topics discussed in the Preliminary Decision Memorandum is included as Appendix I to this notice. The Preliminary Decision Memorandum is a public document and is on file electronically via Enforcement and Compliance's Antidumping and Countervailing Duty Centralized Electronic Service System (ACCESS). ACCESS is available to registered users at http://access.trade.gov, and in the Central Records Unit, Room 7046 of the main Department of Commerce building. In addition, a complete version of the Preliminary Decision Memorandum can be found at http://www.enforcment.trade.gov/frn/.

Preliminary Rescission of Review

Based on information placed on the record by interested parties in the context of this new shipper review, we determine that Jianglong does not meet the minimum requirements in its request for a new shipper review under 19 CFR 351.214(b)(2)(iv)(A) and (C). Therefore, we preliminarily determine that it is appropriate to rescind the new shipper review with respect to Jianglong.⁴

⁴ We have not conducted a detailed bona fides analysis for these preliminary results due to the preliminary decision that Jianglong is not eligible for a new shipper review. See Preliminary Decision Memorandum.

Disclosure and Public Comment

We will disclose analysis performed to parties to the proceeding, normally not later than ten days after the day of the public announcement of, or, if there is no public announcement, within five days after the date of publication of, this notice.⁵

⁵ See 19 CFR 351.224(b)

Interested parties are invited to comment on these preliminary results and submit written arguments or case briefs within 30 days after the publication of this notice, unless otherwise notified by the Department.⁶ Rebuttal briefs, limited to issues raised in the case briefs, will be due five days later.⁷ Parties who submit case or rebuttal briefs are requested to submit with each argument: (1) A statement of the issue; and (2) a brief summary of the argument. Parties are requested to provide a summary of the arguments not to exceed five pages and a table of statutes, regulations, and cases cited.

⁶ See 19 CFR 351.309(c)(ii).

⁷ See 19 CFR 351.309(d).

Any interested party who wishes to request a hearing, or to participate if one is requested, must submit a written request within 30 dates after the day of publication of this notice. A request should contain: (1) The party's name, address, and telephone number; (2) the number of participants; and (3) a list of issues to be discussed.⁸ Issues raised in the hearing will be limited to those raised in case briefs.

⁸ See 19 CFR 351.310(c).

We will issue the final rescission of this new shipper review or final results of this new shipper review, including the results of our analysis of issues raised in any briefs, within 90 days after the date on which this preliminary rescission is issued, unless the deadline for the final results is extended.⁹

⁹ See 19 CFR 351.214(i).

Assessment Rates

Jianglong's entries are currently subject to the PRC-wide rate. Although we intend to rescind this new shipper review, we initiated an administrative review for the period February 1, 2014, through January 31, 2015, which also covers the entries subject to this new shipper review.¹⁰ Accordingly, we will instruct U.S. Customs and Border Protection (CBP) to continue to suspend entries during the period February 1, 2014, through January 31, 2015, of subject merchandise exported by Jianglong until CBP receives instructions relating to the administrative review covering the period February 1, 2014, through January 31, 2015.

¹⁰ See Initiation of Antidumping and Countervailing Duty Administrative Reviews, 80 FR 18202, 18212 (April 3, 2015).

Cash Deposit Requirements

Effective upon publication of the final rescission or the final results of this new shipper review, we will instruct CBP to discontinue the option of posting a bond or security in lieu of a cash deposit for entries of subject merchandise by Jianglong. If we proceed to a final rescission of this new shipper review, the cash deposit rate will continue to be the PRC-wide rate for Jianglong. If we issue final results of the new shipper review, we will instruct CBP to collect cash deposits, effective upon the publication of the final results, at the rate established therein.

Notification to Importers

This notice also serves as a preliminary reminder to importers of their responsibility under 19 CFR 351.402(f)(2) to file a certificate regarding the reimbursement of antidumping duties prior to liquidation of the relevant entries during this review period. Failure to comply with this requirement could result in the Department's presumption that reimbursement of antidumping duties occurred and the subsequent assessment of double antidumping duties.

This new shipper review and notice are in accordance with sections 751(a)(2)(B) and 777(i) of the Act and 19 CFR 351.214(f).

Dated: May 21, 2015.
Ronald K. Lorentzen,
Acting Assistant Secretary for Enforcement and Compliance.

Appendix I

List of Topics Discussed in the Preliminary Decision Memorandum

1. Summary

2. Background

3. Scope of the Order

4. Discussion of Methodology

5. Recommendation

[FR Doc. 2015-12930 Filed 5-27-15; 8:45 am]

BILLING CODE 3510-DS-P